DEPARTMENT OF DEFENSE

48 CFR Part 219 and Appendix I to Chapter 2

[DFARS Case 2002-D029]

Defense Federal Acquisition Regulation Supplement; Extension of DoD Pilot Mentor-Protégé Program

AGENCY: Department of Defense (DoD).

ACTION: Final rule.

SUMMARY: DoD has issued a final rule amending the Defense Federal Acquisition Regulation Supplement (DFARS) to implement section 812 of the National Defense Authorization Act for Fiscal Year 2002. Section 812 extends, through September 30, 2005, the period during which companies may enter into agreements under the DoD Pilot Mentor-Protégé Program.

EFFECTIVE DATE: December 20, 2002.

FOR FURTHER INFORMATION CONTACT: Ms. Angelena Moy, Defense Acquisition Regulations Council, OUSD(AT&L)DPAP(DAR), IMD 3C132, 3062 Defense Pentagon, Washington, DC 20301-3062. Telephone (703) 602-1302; facsimile (703) 602-0350. Please cite DFARS Case 2002-D029.

SUPPLEMENTARY INFORMATION:

A. Background

This final rule amends DFARS 219.7104 and Appendix I to implement section 812 of the National Defense Authorization Act for Fiscal Year 2002 (Pub. L. 107-107). Section 812 extends, through September 30, 2005, the period during which companies may enter into agreements under the DoD Pilot Mentor-Protégé Program. In addition, section 812 extends, through September 30, 2008, the period during which mentor firms may incur costs that are eligible for reimbursement or credit under the Program.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subparts in accordance with 5 U.S.C. 610. Such comments should cite DFARS Case 2002-D029.

C. Paperwork Reduction Act

The information collection requirements associated with the DoD Pilot Mentor Protégé Program have been approved by the Office of Management and Budget, under Control Number 0704-0332, for use through March 31, 2004.

List of Subjects in 48 CFR Part 219

Government procurement.

Michele P. Peterson,
Executive Editor, Defense Acquisition Regulations Council.

Therefore, 48 CFR part 219 and Appendix I to chapter 2 are amended as follows:

1. The authority citation for 48 CFR part 219 and Appendix I to subchapter I continues to read as follows:

Authority: 41 U.S.C. 421 and 48 CFR chapter 1.

PART 219—SMALL BUSINESS PROGRAMS

219.7104 [Amended]

2. Section 219.7104 is amended in paragraph (b), in the last sentence, and in paragraph (d) by removing “2005” and adding in its place “2008”.

Appendix I—Policy and Procedures for the DOD Pilot Mentor-Protege Program

I-102 [Amended]

3. Appendix I to chapter 2 is amended in section I-102, in paragraphs (a) and (b), by removing “2002” and adding in its place “2005”.

I-103 [Amended]

4. Appendix I to chapter 2 is amended in section I-103 as follows:

a. In paragraph (a), by removing “2002” and adding in its place “2005”; and

b. In paragraph (b) introductory text and paragraph (c), by removing “2005” and adding in its place “2008”.

I-109 [Amended]

5. Appendix I to chapter 2 is amended in section I-109, in paragraph (e)(3), by removing “2005” and adding in its place “2008”.

[FR Doc. 02-31947 Filed 12-19-02; 8:45 am]

BILLING CODE 5001-08-P